SMALL BUSINESS ADMINISTRATION

[Declaration of Disaster #3593]

State of Texas

Tarrant County and the contiguous counties of Dallas, Denton, Ellis, Johnson, Parker, and Wise in the State of Texas constitute a disaster area due to severe thunderstorms and flooding that occurred on June 6 through June 9, 2004. Applications for loans for physical damage as a result of this disaster may be filed until the close of business on August 16, 2004, and for economic injury until the close of business on March 17, 2005, at the address listed below or other locally announced locations: U.S. Small Business Administration, Disaster Area 3 Office, 14925 Kingsport Road, Fort Worth, TX 76155-2243.

The interest rates are:

| Percent
For Physical Damage:
Homeowners with Credit Available Elsewhere | 5.750
Homeowners Without Credit Available Elsewhere | 2.875
Businesses with Credit Available Elsewhere: | 5.500
Businesses and Non-Profit Organizations Without Credit Available Elsewhere | 2.750
Others (Including Non-Profit Organizations) with Credit Available Elsewhere | 4.875
For Economic Injury:
Businesses and Small Agricultural Cooperatives Without Credit Available Elsewhere | 2.750

The number assigned to this disaster for physical damage is 359306 and for economic injury the number is 9ZJ700.

(Catalog of Federal Domestic Assistance Program Nos. 59002 and 59008.)
Dated: June 17, 2004.
Hector V. Barreto,
Administrator.

[FR Doc. 04-14210 Filed 6-22-04; 8:45 am]

BILLING CODE 8025-01-P